DEPARTMENT OF THE INTERIOR

Office of the Secretary

Privacy Act of 1974, As Amended; Addition of a New System of Records

AGENCY: Department of the Interior.

ACTION: Proposed addition of a new system of records.

SUMMARY: The Department of Interior is issuing public notice of its intent to add a new Department-wide Privacy Act system of records to its inventory of records systems subject to the Privacy Act of 1974 (5 U.S.C. 552a). This action is necessary to meet the requirements of the Privacy Act to publish in the Federal Register notice of the existence and character of records systems maintained by the agency (5 U.S.C. 552a(e)(4)). The new system of records is called the “DOI-05: The Volunteer Services File.”

DATES: 5 U.S.C. 552a(e)(11) requires that the public be provided a 30-day period in which to comment on the intended use of the information in the system of records. The Office of Management and Budget, in its Circular A-130, requires an additional 10-day period (for a total of 40 days) in which to make these comments. Any persons interested in commenting on this proposed system of records may do so by submitting comments in writing to the Departmental Privacy Act Officer, U.S. Department of the Interior, Office of Information Resources Management, MS 5312 MIB, 1849 C Street, NW., Washington, DC 20240, or by e-mail at Marilyn_Legnini@doi.gov. Comments received on or before July 2, 2001 will be considered. The system will be effective as proposed at the end of the comment period unless comments are received which would require a contrary determination. In that case the Department will publish any changes to the routine uses.

FOR FURTHER INFORMATION CONTACT: John Mahoney, Office of Planning and Performance Management, Office of the Secretary, by phone at 202-208-4560, email at: John_Mahoney@doi.gov, or mail at MS-5259-MIB, 1849 C St., NW., Washington, DC 20240.

SUPPLEMENTARY INFORMATION: The Interior Volunteer Services File system will contain information on individuals for the purpose of determining an interest in a volunteer opportunity, suitability for the opportunity, and for administration of the volunteer program.

A copy of the system notice for “Interior Volunteer Services File System” DOI-05, follows.

Dated: May 18, 2001.
Marilyn Legnini,
Departmental Privacy Act Officer, Department of Interior.

INTERIOR/DOI-05

System Name:

Interior Volunteer Services File System.

Security Classification:

Not classified.

System Location:

The records of this system are located at various field offices of Department of Interior bureaus which currently utilize volunteers. See Interior Bureau headquarter offices listed below or from the Department of Interior web site at www.doi.gov:

(1) U.S. Geological Survey, Volunteer for Science Program, Office of Communications, 12201 Sunrise Valley Drive, Reston, VA 20192.

(2) U.S. Fish and Wildlife Service, Volunteer Program, Headquarters Office, National Wildlife Refuge System, 4401 N. Fairfax Drive, Rm 670, Arlington, VA 22203.

(3) Bureau of Reclamation, Volunteer Program, Office of Policy, Department of the Interior, 1849 C. St. NW., Washington, DC 20240.

(4) Bureau of Land Management, Environmental Education and Volunteers Group, 1849 C. St., LS-406, Washington, DC 20240.

(5) National Park Service, Servicewide Volunteer Coordinator, Rm. 7312, 1849 C Street NW., Washington, DC 20240.

(6) Information from on-line applications from the Volunteer Page web site is managed by the National Business Center, U.S. Department of the Interior, Second Floor, Parker Building, Reston, Virginia 20192.

Categories of Individuals Covered by the System:

Persons performing work for the Department of Interior as volunteers but not as an employee of the agency. It includes interested persons, individuals involved in community, youth organizations, high schools and colleges.

Categories of Records in the System:

The file may contain application forms; name; address; home phone number; facility where the individual is providing volunteer services; name of the supervisor; dates volunteered; date terminated; any physical or medical condition the facility staff needs to be aware of; emergency contact name, address, telephone, and relationship to the volunteer, and (if applicable) specific training the volunteer needs; personal equipment the volunteer needs; and reimbursable expenses provided to the volunteer; agreements to perform the services described; emergency notification data; contact information; time sheets; skills and qualification information; receipt for property; compensation for injuries; performance evaluation; and other information necessary to manage the volunteer program for each DOI bureau or office.

Routine uses of records maintained in the system including categories of users and the purposes of such uses:

Use by Department of the Interior bureaus and offices to identify persons interested in participating in a government volunteer program, and for all necessary purposes for managing the volunteer program.

Disclosures outside the Department of the Interior may be made under the routine uses listed below without the consent of the individual if the disclosure is compatible with the purposes for which the record was collected.

(1) To an expert, consultant, or contractor (including employees of the contractor) of the Department that performs, on the Department's behalf, services requiring the use of these records.

(2) To another government natural resource agency for the purpose consistent with the purpose identified above;

(3) The Department of Justice, or to a court, adjudicative or other administrative body, or to a party in litigation before a court or adjudicative or administrative body, when:

(a) One of the following is a party to the proceeding or has an interest in the proceeding:

(1) The Department or any component of the Department;

(2) Any Departmental employee acting in his or her official capacity;

(3) Any Departmental employee acting in his or her individual capacity where the Department or the Department of Justice has agreed to represent the employee, or

(4) The United States, when the Department determines that the Department is likely to be affected by the proceeding; and

(b) The Department deems the disclosure to be:

(1) Relevant and necessary to the proceedings; and

(2) Compatible with the purpose for which we compiled the information.

(4) To appropriate Federal, State, local or foreign agencies responsible for investigating or prosecuting the violation of or for enforcing or implementing a statute, rule, regulation, order or license, when the Department becomes aware of a violation or potential violation of a statute, rule, regulation, order or license.

(5) To a congressional office in response to an inquiry an individual has made to the congressional office.

(6) To the Office of Personnel Management or the General Accounting Office when the information is required for evaluation of the child care subsidy program.

Disclosure to Consumer Reporting Agencies:

Pursuant to 5 U.S.C. 552a(b)12, records can be disclosed to consumer reporting agencies as they are defined in the Fair Credit Reporting Act (15 U.S.C. 1681a(f)) or the Federal Claims Collection Act of 1966 (31 U.S.C. 3701(a)(3)).

Policies and practices for storing, retrieving, accessing, retaining, and disposing of records in the system:

Storage:

Records are stored both in file folders, and in electronic form, in computer systems.

Retrievability:

Indexed by name of the volunteer, control number assigned the volunteer, or social security number.

Safeguards:

Access to records in the system is limited to authorized personnel whose official duties require such access. Paper records are maintained in locked metal file cabinets and/or in secured rooms. Electronic records conform to Office of Management and Budget and Departmental guidelines reflecting the implementation of the Computer Security Act of 1987 (40 U.S.C. 759). Electronic data will be protected through user identification, passwords, database permissions and software controls. Such security measures will establish different access levels for different types of users.

Retention and Disposal:

Records in this system are covered by each individual Bureau/Office records schedule that has a Volunteer Program. National Archives and Records Administration guidance on permanent and temporary records disposition is followed.

System Manager(s) and Address:

Officials responsible for the Headquarters and field office system of records specific to that oversight are provided in the listing above under “System Location.”

Notification Procedures:

Any individual may request information regarding this system of records, or information as to whether the system contains records pertaining to them, from the organizational unit for which he or she performed work. The request must be in writing, signed by the requester, include the requester's full name and Social Security Number, dates when work was performed, program under which enrolled, and location where work was performed. (See 43 CFR 2.60 for procedures on making inquiries).

Record Access Procedures:

For copies of your records write to the pertinent System Managers at the locations above. The request envelope and letter should be clearly marked “PRIVACY ACT REQUEST FOR ACCESS.” A request for access must meet the content requirements of 43 CFR 2.63(b)(4)).

Contesting Record Procedures:

Use same procedures as “Records Access Procedures” section above. (See 43 CFR 2.71).

Record Source Categories:

Information from this system comes primarily from the individual himself, the sponsoring organization, work supervisors and volunteer program officials.

Exemptions Claimed for the System:

None.

[FR Doc. 01-12989 Filed 5-22-01; 8:45 am]

BILLING CODE 4310-RJ-P